ENVIRONMENTAL PROTECTION AGENCY

[FRL-7054-9]

Proposed Agreement and Covenant Not To Sue Pursuant to the Comprehensive Environmental Response, Compensation, and Liability Act of 1980, as Amended by the Superfund Amendments and Reauthorization Act of 1986; In Re: Elizabeth Mine Superfund Site, Strafford, VT

AGENCY: Environmental Protection Agency.

ACTION: Notice of proposed agreement; request for public comment.

SUMMARY: In accordance with the Comprehensive Environmental Response Compensation, and Liability Act, as amended (“CERCLA”), 42 U.S.C. 9601, et. seq., as amended, notice is hereby given of a proposed Agreement and Covenant Not to Sue between the United States, on behalf of the U.S. Environmental Protection Agency (“EPA”) and the U.S. Department of Interior (“DOI”), the State of Vermont, and the George D. Aiken Resource Conservation and Development Council, Inc (“Purchaser”). The Purchaser plans to acquire 6.33 acres of property that may be contaminated by leach heaps and tailings piles originating from the Elizabeth Mine Superfund Site. The proposed agreement will allow the Purchaser to further its goals of ensuring historical status for the Elizabeth Mine and preserving community access to Site property. In return, the Purchaser agrees to provide an irrevocable right of access to representatives of EPA and DOI and to comply with any Institutional Controls that EPA may require as part of the remediation. In addition, the Purchaser agrees to fully cooperate with any natural resource damage assessment and/or restoration activities conducted by or on behalf of DOI.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at One Congress Street, Boston, MA 02214.

DATES: Comments must be submitted on or before October 12, 2001.

ADDRESSES: Comments should be addressed to the Regional Hearing Clerk, U.S. Environmental Protection Agency, Region I, One Congress Street, Suite 1100, Mailcode RAA, Boston, Massachusetts 02203, and should refer to: In re: Elizabeth Mine Superfund Site, U.S. EPA Docket No. CERCLA-01-2001-0054.

FOR FURTHER INFORMATION CONTACT: A copy of the proposed Agreement and Covenant Not to Sue can be obtained from Steven Schlang, U.S. Environmental Protection Agency, Region I, One Congress Street, Mailcode SES, Boston, Massachusetts 02214, (617) 918-1773.

Dated: July 25, 2001.
Ira W. Leighton,
Acting Regional Administrator, Region I.

[FR Doc. 01-22911 Filed 9-11-01; 8:45 am]

BILLING CODE 6560-50-P